DEPARTMENT OF THE INTERIOR

National Park Service

[NPS-WASO-NRNHL-DTS#-29866; PPWOCRADI0, PCU00RP14.R50000]

National Register of Historic Places; Notification of Pending Nominations and Related Actions

AGENCY: National Park Service, Interior.

ACTION: Notice.

SUMMARY: The National Park Service is soliciting comments on the significance of properties nominated before February 15, 2020, for listing or related actions in the National Register of Historic Places.

DATES: Comments should be submitted by March 27, 2020.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before February 15, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Pueblo County

Coronado Lodge, 2130 Lake Ave., Pueblo, SG100005146

KANSAS

Brown County

Horton Civic Center, (New Deal-Era Resources of Kansas MPS), 125 West 7th St. and 145 West 7th St., Horton, MP100005121

Lincoln County

Lincoln Downtown Historic District, Roughly bounded by East and West Lincoln Ave., Elm St., Court St., West Court and South 5th St., Lincoln, SG100005123

Lincoln City Park

(New Deal-Era Resources of Kansas MPS), 500-700 blocks of East Lincoln Ave., Lincoln, MP100005124

Marion County

Donaldson and Hosmer Building, 318 East Main St., Marion, SG100005122

Saline County

Teague Nelson Building, 104-106 South Santa Fe Ave., Salina, SG100005118

Sedgwick County

Riley Holden Block, 1027-1029 West Douglas Ave., Wichita, SG100005116

South Kansas Avenue Historic District, (Residential Resources of Wichita, Sedgwick County, Kansas 1870-1957 MPS), 220-224 South Kansas Ave., Wichita, MP100005117

Shawnee County

Fire Station No. 7, 1215 SW Oakley Ave., Topeka, SG100005119

2209 SW 29th/Dr. Karl & Jeanetta Lyle Menninger Education Center, 2209 SW 29th St., Topeka, SG100005120

MARYLAND

Baltimore County

Day Village Historic District, 511 Avondale Rd., Dundalk, SG100005133

MONTANA

Lincoln County

Heritage Museum, The, 34067 US 2, Libby, SG100005148

NEW YORK

Onondaga County

Merrell-Soule None Such Mince Meat Factory, Industrial Resources in the City of Syracuse, Onondaga County, NY MPS), 600 North Franklin St. Syracuse, MP100005152

OHIO

Ashtabula County

Castle Block, 323-355 Center St., Ashtabula, SG100005127

Fairfield County

Fairfield County Infirmary, 1587 Granville Pike and 1651 Lancaster-Newark Rd. NE, Lancaster, SG100005128

SOUTH DAKOTA

Charles Mix County

Pickstown Fire and Police Station, 108 Lewis Ave., Pickstown, SG100005109

Day County

Anderson, James and Wilhelmina, House, 216 Park Ave., Lily, SG100005111

Chilson, Chil and Julia House, 120 West 8th Ave., Webster, SG100005112

Hamlin County

Bryant Masonic Lodge 118, 204 East Main St., Bryant, SG100005110

TENNESSEE

Gibson County

Sitka School, Napoleon Luther Rd., Milan vicinity, SG100005137

Greene County

Crescent School, 615 West Main St., Greeneville, SG100005134

Haywood County

Stanton School, 5 Lafayette St., Stanton, SG100005144

McMinn County

Englewood Water Tower, East Athens St., Englewood, SG100005141

Shelby County

Bennett, Gladys “MaDear”, House, 1039 Delmar Ave., Memphis, SG100005136

Warren County

Webb Hotel, 281 Great Falls Rd., Rock Island, SG100005145

Williamson County

Hincheyville Historic District (Boundary Increase and Decrease), West Main, Fair, 6th, 7th, 8th, 9th, and 10th Sts., Franklin, BC100005139

WISCONSIN

Dane County

Coolidge Street-Myrtle Street Historic District, 2301-2826 Myrtle St., 2302-2826 Coolidge St. (Even), 912-1001 Kedzie St., 902-1002 North St., Madison, SG100005149

King Street Arcade, 107-113 King St., 115-117 South Pinckney St., Madison, SG100005150

La Crosse County

WAR EAGLE Shipwreck (sidewheel steamboat), Adjacent to Riverside North Park in the Black R., La Crosse vicinity, SG100005114

A request for removal has been made for the following resources:

KANSAS

Reno County

Kansas Sugar Refining Company Mill, 600 East 1st Ave., Hutchinson, OT85000013

SOUTH CAROLINA

Horry County

Rainbow Court, (Myrtle Beach MPS), 405 Flagg St., Myrtle Beach, OT96001221

Spartanburg County

Bon Haven, 728 North Church St., Spartanburg, OT76001711

TENNESSEE

Giles County

Bethany Presbyterian Church Complex, Elkton Rd., Bryson vicinity, OT89001968

Sullivan County

Grand Guitar, 3245 West State St., Bristol, OT14000057

Additional documentation has been received for the following resources:

KANSAS

Reno County

Houston Whiteside Historic District (Additional Documentation), Roughly bounded by BNSF RR, Pershing, Ave. B and Ave. A, Plum and Elm Sts., Hutchinson, AD04000738

MAINE

Sagadahoc County

Richmond Historic District (Additional Documentation), Roughly bounded by South St., High St., Main St. Kimbal St., and the Kennebec River, Richmond, AD73000146

TENNESSEE

Cheatham County

Mound Bottom (Additional Documentation), Address Restricted, Kingston Springs vicinity, AD71000813

Williamson County

Hincheyville Historic District (Additional Documentation), West Main, Fair, 6th, 7th, 8th, 9th, and 10th Sts., Franklin, AD82004071

Authority: Authority: Section 60.13 of 36 CFR part 60

Dated: February 19, 2020.
Julie H. Ernstein,
Supervisory Archeologist, National Register of Historic Places/National Historic Landmarks Program.

[FR Doc. 2020-05087 Filed 3-11-20; 8:45 am]

BILLING CODE 4312-52-P